ENVIRONMENTAL PROTECTION AGENCY

[FRL-8290-2]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1788.08; NESHAP for Oil and Natural Gas Production (Final Rule); in 40 CFR part 63, subpart HH; was approved 02/27/2007; OMB Number 2060-0417; expires 02/28/2010.

EPA ICR No. 2050.03; NESHAP for Taconite Iron Ore Processing (Renewal); in 40 CFR part 63, subpart RRRRR; was approved 02/21/2007; OMB Number 2060-0538; expires 02/28/2010.

EPA ICR No. 0029.09; NPDES Modification and Variance Requests; in 40 CFR 122.62-64, 40 CFR 122.21(m)(1-2 & 4-6), 40 CFR 122.21(n)(1 & 3), 40 CFR 122.41(l)(1, 3, 8), 40 CFR 501.15(b)(8, 12), 40 CFR 122.24(l)(2, 8), 40 CFR 122.42(a)(1-2), 40 122.47(b)(4), 40 CFR 122.41(h), 40 CFR 124.53-124.54, 40 CFR 501.15(c)(2), 40 CFR 125.30, and 40 CFR 122.29(b); was approved 02/21/2007; OMB number 2040-0068; expires 02/28/2010.

EPA ICR No. 1803.05; Drinking Water State Revolving Fund Program; in 40 CFR part 35, subpart L; was approved 02/21/2007; OMB Number 2040-0185; expires 02/28/2010.

EPA ICR No. 0168.09; NPDES and Sewage Sludge Management State Programs; in 40 CFR 122, 40 CFR 123.21-123.24, 40 CFR 123.26-123.29, 40 CFR 123.43-123.45 40 CFR 123.62-123.64, 40 CFR 124.53-124.54, 40 CFR 125, 40 CFR 501, 40 CFR 123.68(e), 40 CFR 123.68(e)(5), 40 CFR 123.41(a), 40 CFR 501.21, 40 CFR 501.34, 40 CFR 501.11, 40 CFR 501.16, 40 CFR 123.26(b)(2)&(3), 40 CFR 124.53-124.54, 40 CFR 123.43-123.44, 40 CFR 501.14; was approved 02/21/2007; OMB Number 2040-0057; expires 02/28/2010.

EPA ICR No. 1772.04; Information Collection Activities Associated with EPA's ENERGY STAR Program in the Commercial and Industrial Sectors (Renewal); was approved 02/26/07; OMB Number 2060-0347; expires 02/28/2010.

EPA ICR No. 0783.52; Cold Temperature Hydrocarbon Emissions Standards For Light-Duty Vehicles, Light-Duty Trucks, and Medium-Duty Passenger Vehicles (Final Rule); in 40 CFR part 85, subparts R, S, T, V, W, and Y; 40 CFR part 86, subparts B, E, F, G, H, J, K, L, O, P, R, and S; and 40 CFR part 600, subparts A, B, D, and F; was approved 02/26/2007; OMB Number 2060-0014; expires 11/30/2008.

EPA ICR No. 1696.05; Fuels and Fuel Additives: Health-Effects Research Protocols (Renewal); in 40 CFR part 79, subpart F; was approved 02/08/2007; OMB Number 2060-0297; expires 02/28/2010.

EPA ICR No. 1665.07; Confidentiality Rules (Renewal); in 40 CFR part 2, subparts A, B; was approved 02/14/2007; OMB Number 2020-0003; expires 02/28/2010.

EPA ICR No. 2046.03; NESHAP for Mercury Cell Chlor-Alkai Plants (Renewal); in 40 CFR part 63, subpart IIIII; was approved 02/13/2007; OMB Number 2060-0542; expires 02/28/2010.

EPA ICR No. 2062.03; NESHAP for Site Remediation (Renewal); in 40 CFR part 63, subpart GGGGG; was approved 02/13/2007; OMB Number 2060-0534; expires 02/28/2010.

EPA ICR No. 2231.01; Information Collection Request for Contaminant Occurrence Data in Support of EPA's Second Six-Year Review of National Primary Drinking Water Regulations; was approved 02/21/2007; OMB Number 2040-0275; expires 02/28/2010.

EPA ICR No. 0220.10; Clean Water Act Section 404 State-Assumed Programs; in 40 CFR 233.10-14, 40 CFR 233.20-21, 40 CFR 233.30, 40 CFR 233.50, 40 CFR 233.52; was approved 02/21/2007; OMB Number 2040-0168; expires 02/28/2010.

EPA ICR No. 2060.02; Cooling Water Intake Structures Phase II Existing Facility (Final Rule); in 40 CFR 122.21(d)(2), 40 CFR 122.21(r)(2,3,5), 40 CFR 122.21(r)(2)(i-iii), 40 CFR 122.21(r)(3)(i-v), 40 CFR 122.21(r)(5)(i-ii), 40 CFR 125.94-125.98; was approved 02/20/2007; OMB Number 2040-0257; expires 05/31/2007.

EPA ICR No. 2228.02; Reformulated Gasoline Commingling Provisions (Renewal); in 40 CFR 80.78; was approved 03/06/2007; OMB Number 2060-0587; expires 03/31/2010.

EPA ICR No. 1060.14; NSPS for Steel Plants: Electric Arc Furnaces and Argon-Oxygen Decarburization Vessels (Renewal); in 40 CFR part 60, subparts AA and AAa; was approved 03/06/2007; OMB Number 2060-0038; expires 03/31/2010.

EPA ICR No. 1381.08; Recordkeeping and Reporting Requirements for Solid Waste Disposal Facilities and Practices; in 40 CFR 258.10-258.16, 40 CFR 258.20-258.23; 40 CFR 258.28 and 258.29; was approved 3/7/2007; OMB Number 2050-0122; expires 03/31/2010.

EPA ICR No. 2223.01; Residential and Commercial Awareness and Use of Rodenticides in Southern California Urban Ecosystems; was approved 02/08/2007; OMB Number 2080-0077; expires 02/28/2010.

Comment Filed

EPA ICR No. 1189.18; F019 Listing Amendment (Proposed Rule); OMB filed comment on 02/26/2007.

Dated: March 13, 2007.
Oscar Morales,
Director, Collection Strategies Division.

[FR Doc. E7-5160 Filed 3-20-07; 8:45 am]

BILLING CODE 6560-50-P